DEPARTMENT OF JUSTICE

Federal Bureau of Investigation

Agency Information Collection Activities; Proposed Collection; Comments Requested

ACTION: 30 Day Notice of Information Collection Under Review: Number of Full-Time Law Enforcement Employees as of October 31.

The Department of Justice (DOJ), Federal Bureau of Investigation (FBI), has submitted the following information collection request to the Office of Management and Budget (OMB) for review and approval in accordance with the review procedures of the Paperwork Reduction Act of 1995. The 60-day notice was published in the Federal Register on April 29, 2002, (Volume 67, Number 82, Pages 20998)) and no comments were received from the public by the FBI. The purpose of this notice is to allow an additional 30 days for public comments. Comments are encouraged and will be accepted until September 2002. This process is conducted in accordance with 5 CFR 1320.10.

Written comments and/or suggestions regarding the item(s) contained in this notice, especially regarding the estimated public burden and associated response time, should be directed to OMB, Office of Information and Regulatory Affairs, Attention: Department of Justice Desk Officer (202) 395-6466, Washington, DC 20530. Comments may also be submitted to DOJ, Justice Management Division, Information Management and Security Staff, Attention: Robert B. Briggs, Department Clearance Office, United States Department of Justice, Information Management and Security Staff, Justice Management Division, Suite 1600, Patrick Henry Building, 601 D Street, NW., Washington, DC 20530.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this Collection

(1) Type of Information Collection: Extension of a currently approved collection.

(2) Title of the Form/Collection: Number of Full-Time Law Enforcement Employees as of October 31.

(3) Agency form number, if any, and the applicable component of the Department of Justice sponsoring the collection: Form I-711a/711b/711c. Federal Bureau of Investigation.

(4) Affected public who will be asked or required to respond, as well as a brief abstract: Primary: State and Local Law Enforcement Agencies. This collection is needed to determine the number of civilian and sworn full-time law enforcement employees throughout the United States. Data are tabulated and published in the annual Crime in the United States.

(5) An estimate of the total number of respondents and the amount of time estimated for an average respondent to respond: Estimated number of respondents: 16,825 agencies with 16,825 responses (includes zero reports); with an average of 8 minutes a year devoted to compilation of data for this information collection.

(6) An estimate of the total public burden (in Hours) associated with this collection: 2,243 hours annually.

If additional information is required contact: Robert B. Briggs, Department Clearance Office, United States Department of Justice, Information Management and Security Staff, Justice Management Division, Suite 1600, Patrick Henry Building, 601 D Street, NW., Washington, DC 20530.

Dated: July 29, 2002.
Robert B. Briggs,
Department Clearance Officer, United States Department of Justice.

[FR Doc. 02-19643 Filed 8-2-02; 8:45 am]

BILLING CODE 4410-02-M